DEPARTMENT OF ENERGY

Federal Energy Regulatory Commission

[Docket Nos. RP00-474-007 and RP01-17-009 and RP03-174-004]

Maritimes & Northeast Pipeline, L.L.C.; Notice of Compliance Filing

February 19, 2004.

Take notice that on February 13, 2004, Maritimes & Northeast Pipeline, L.L.C. (Maritimes) tendered for filing as part of its FERC Gas Tariff, First Revised Volume No. 1, the following tariff sheets: (i) Second Sub First Revised Sheet No. 262A, with an effective date of July 1, 2003, and (ii) Third Revised Sheet No. 263 and Second Revised Sheet No. 264, both with an effective date of March 1, 2004.

Maritimes states that the purpose of this filing is to comply with the Commission's order issued in the captioned dockets on January 29, 2004 (January 29 Order). Maritimes states that it is making changes to its General Terms and Conditions in order to credit and charge OBA parties a blended rate for imbalances on the system, regardless of whether they trade the imbalances, and to clarify that its restriction on trading imbalances across Posted Points of Restriction only applies to imbalances created while a Posted Point of Restriction was in effect.

Maritimes states that it has served this filing on all parties on the Commission's Official Service List in this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-395 Filed 2-25-04; 8:45 am]

BILLING CODE 6717-01-P